DEPARTMENT OF THE INTERIOR

Bureau of Land Management

[LLES930000.L14300000.PN0000]

Notice of Application for Recordable Disclaimer of Interest, Florida

AGENCY: Bureau of Land Management, Interior.

ACTION: Notice.

SUMMARY: Farmland Reserve, Inc. filed an application for a Recordable Disclaimer of Interest pursuant to Section 315 of the Federal Land Policy and Management Act of 1976, as amended (43 U.S.C. 1745), and the regulations in 43 CFR subpart 1864. A Recordable Disclaimer of Interest, if issued, will confirm the United States has no valid interest in the subject land. This notice is intended to inform the public of the pending application.

DATES: The Bureau of Land Management (BLM), Eastern States, will accept comments on this application at the address below until April 12, 2010. During this 90-day comment period, interested parties may submit comments on this Recordable Disclaimer of Interest application. Please reference case file FLES-55708 in your comment.

ADDRESSES: Mail comments to: Steven R. Wells, Deputy State Director, Division of Natural Resources, BLM-Eastern States, 7450 Boston Boulevard, Springfield, Virginia 22153.

FOR FURTHER INFORMATION CONTACT: A. Nate Felton, Supervisory Land Law Examiner, Branch of Lands and Realty, at the above address or by phone at (703) 440-1511.

SUPPLEMENTARY INFORMATION: On June 15, 2009, Farmland Reserve, Inc. filed an application for a Recordable Disclaimer of Interest for the land described as follows:

Tallahassee Meridian

T. 25 S., R. 31 E.,

Fractional sec. 12, W½, NE¼, and unsurveyed part of the SE¼;

Fractional sec. 13, unsurveyed;

Fractional sec. 24, W½, and unsurveyed part of the E½;

Fractional sec. 25, W¼, SE¼, and unsurveyed part of the NE¼.

T. 25 S., R. 32 E.,

Fractional secs. 7, and 8, secs. 17 to 20, inclusive, and sec. 30.

The areas described aggregate approximately 4,747.73 acres in Osceola County, Florida.

This land has been patented into private ownership. It is the opinion of this office that the Federal government no longer has an interest in this 4,747.73-acre parcel.

Comments will be available for public review at the BLM-Eastern States Office (see address above) during regular business hours, Monday through Friday, except holidays.

Before including your address, phone number, e-mail address, or other personal identifying information in your comment, you should be aware that your entire comment—including your personal identifying information—may be made publicly available at any time. While you can ask us in your comment to withhold your personal identifying information from public review, we cannot guarantee that we will be able to do so.

If no valid objection is received, a Disclaimer of Interest may be approved stating the United States does not have a valid interest in this tract of land.

Juan Palma,
State Director.

[FR Doc. 2010-309 Filed 1-11-10; 8:45 am]

BILLING CODE 4310-GJ-P